DEPARTMENT OF THE INTERIOR

National Park Service

[NPS-NER-FIIS-DTS-21798; PX.P0201786a.00.1]

Draft Fire Island Wilderness Breach Management Plan/Environmental Impact Statement, Fire Island National Seashore, New York

AGENCY: National Park Service, Department of the Interior.

ACTION: Notice of availability.

SUMMARY: The National Park Service (NPS) announces the availability of the Draft Fire Island Wilderness Breach Management Plan and Environmental Impact Statement (Draft Breach Plan/EIS) for Fire Island National Seashore, New York. The Draft Breach Plan/EIS presents and analyzes the potential consequences of three alternatives that will guide the management of the breach that occurred in the Otis Pike Fire Island High Dune Wilderness during Hurricane Sandy in October, 2012.

DATES: The comment period will end on December 12, 2016. A public meeting will be held on November 7, 2016.

ADDRESSES: Copies of the Draft Breach Plan/EIS will be available online for public review at http://parkplanning.nps.gov/FireIslandBreachManagementPlan. A limited number of hard copies will be available upon request. The public meeting will be held at the Patchogue-Watch Hill Ferry Terminal at 150 West Ave. in Patchogue, New York. Comments can be submitted electronically at http://parkplanning.nps.gov/FireIslandBreachManagementPlan. Comments in hard copy (e.g., in a letter) can be sent by U.S. Postal Service or other mail delivery service or hand-delivered to: Chris Soller, Superintendent, Fire Island National Seashore, 120 Laurel Street Patchogue, NY 11772. Written comments will also be accepted at the public meeting.

FOR FURTHER INFORMATION CONTACT: Kaetlyn Jackson, Fire Island National Seashore, 120 Laurel Street Patchogue, NY, 11772, 631-687-4770.

SUPPLEMENTARY INFORMATION: On October 29, 2012, Hurricane Sandy created three breaches in the barrier island system off the south shore of Long Island, New York, including one within the Otis Pike Fire Island High Dune Wilderness Area (Fire Island Wilderness) which is within the boundaries of Fire Island National Seashore (Seashore).

The existing Breach Contingency Plan, developed by the U.S. Army Corps of Engineers in 1996, is the only guidance currently in effect to address breaches along coastal Long Island from Fire Island Inlet east to Montauk Point. Action is needed at this time because the Breach Contingency Plan is outdated and does not adequately address management of breaches in the Fire Island Wilderness.

Managing a breach in designated wilderness is different from managing breaches outside wilderness areas, as the NPS must manage federal wilderness to preserve wilderness character. Management of the Fire Island Wilderness must comply with the Wilderness Act of 1964; the 1980 Otis Pike Fire Island High Dune Wilderness Act (Pub. L. 96-585); and the 1983 Wilderness Management Plan, Fire Island National Seashore, which governs NPS actions taken in the Fire Island Wilderness. However, while the wilderness breach must be managed to protect wilderness character, the Otis Pike Fire Island High Dune Wilderness Act does not preclude closure of a wilderness breach if closure were needed “to prevent loss of life, flooding, and other severe economic and physical damage to the Great South Bay and surrounding areas.” Therefore, pursuant to the National Environmental Policy Act of 1969 (42 U.S.C. 4321 et seq.), the NPS prepared this Draft Fire Island Wilderness Breach Management Plan and Environmental Impact Statement (Draft Breach Plan/EIS) to develop a management strategy for the breach in the Fire Island Wilderness. The Draft Breach Plan/EIS has several goals:

• Ensuring the continued integrity of the wilderness character;

• protecting the natural and cultural features of the Seashore and its surrounding ecosystems;

• protecting human life; and

• managing the risk of economic and physical damage to the surrounding areas.

Scoping and early engagement with other agencies, tribes, stakeholders, and the public began in late 2014 and continued through 2015. Formal public scoping was initiated with the publication of a Notice of Intent to Prepare an EIS in the Federal Register (80 FR 53886, Sept. 8, 2015). Early in the scoping period, the US Army Corps of Engineers, New York district and the State of New York, Department of Environmental Conservation agreed to be cooperating agencies in development of the Breach Plan/EIS.

The Draft Breach Plan/EIS evaluates two action alternatives and the no-action alternative.

Alternative 1—Mechanical closure of the wilderness breach as soon as possible.

Alternative 2 (no action)—The evolution, growth, and/or closure of the wilderness breach would be determined by natural barrier island processes and no human intervention would occur to close the breach or to reopen the breach if it were to close by natural processes.

Alternative 3 (proposed action and NPS preferred alternative)—The evolution, growth, and/or closure of the breach would be determined by natural barrier island processes, and human intervention to close the breach would occur only “to prevent loss of life, flooding, and other severe economic and physical damage to the Great South Bay and surrounding areas.” The NPS would develop criteria that indicate the breach poses a threat to life and/or property. As long as monitoring data show that the established criteria have not been exceeded, the NPS would allow the breach to be shaped entirely by natural processes with no human intervention. The breach may remain open or it may close naturally. If monitoring data indicate that the established criteria have been exceeded, the breach would be mechanically closed as soon as practicable.

Alternative 3 is identified as the NPS preferred alternative because it allows the breach to be managed according to NPS resource management policies and wilderness directives while allowing closure if necessary to prevent “loss of life, flooding, and other severe economic and physical damage to the Great South Bay and surrounding areas.”

The Draft Breach Plan/EIS analyzes the impacts of these three alternatives on the human environment by examining five key issues:

(1) The wilderness breach is geologically bound by erosion-resistant clay in the geological record to the east and west of the breach; however, there is uncertainty regarding how the breach will evolve in the future (narrow or widen from existing conditions), how far it might migrate along the coast, and how it affects sediment transport.

(2) There is concern that the presence of the wilderness breach increases the potential for flooding on the mainland of Long Island during storm events, increasing the potential risk to life and property.

(3) The wilderness breach has altered the physical characteristics of the Fire Island Wilderness and Great South Bay, which has led to changes in the ecological communities.

(4) The wilderness breach resulted in the creation of a marine wilderness area that did not previously exist. The mechanical closure of the breach would alter the existing wilderness qualities of the area.

(5) Driving access has changed since formation of the wilderness breach. There is concern that changes in driving access for emergency response could increase risks to public health and safety in several Fire Island communities.

To examine these issues, the environmental analysis focuses on the following resources:

• Wilderness character;

• sediment transport and geomorphology;

• water quality;

• ecosystem structure and processes;

• benthic communities;

• finfish and decapod crustaceans;

• socioeconomics; and

• public health and safety.

The NPS encourages commenting electronically through the NPS Planning, Environment, and Public Comment Web site. If you wish to comment electronically, you may submit your comments online at http://parkplanning.nps.gov/FireIslandBreachManagementPlan.

If you wish to submit your comments in hard copy (e.g., in a letter), you may send them by U.S. Postal Service or other mail delivery service or hand-deliver them to: Chris Soller, Superintendent, Fire Island National Seashore, 120 Laurel Street Patchogue, NY 11772.

A public meeting will be held on November 7th from 7:00 to 8:30 p.m. at the Patchogue-Watch Hill Ferry Terminal at 150 West Ave. in Patchogue, New York. The public meeting will provide an opportunity to learn more about the plan and to ask questions about the plan. Written comments will be accepted during the public meeting.

Comments will not be accepted by fax, email, or in any form other than those specified above. All comments received on the Draft Breach Plan/EIS will be reviewed and considered. An analysis of substantive comments with NPS responses will be provided in a comment analysis report that will be included in the Final Breach Plan/EIS. A comment is considered to be substantive if it raises, debates, or questions a point of fact or policy discussed in the Draft Breach Plan/EIS. Comments that merely state support for or opposition to the proposed action, alternatives, or NPS policy, without providing supporting information, will not be considered substantive. Although all comments will be read and considered in shaping the Final Breach Plan/EIS, only those that are determined to be substantive will be explicitly addressed by the NPS response.

Before including your address, phone number, email address, or other personal identifying information in your comment, you should be aware that your entire comment—including your personal identifying information—may be made publicly available at any time. While you can ask us in your comment to withhold your personal identifying information from public review, we cannot guarantee that we will be able to do so.

Dated: August 22, 2016.
Jonathan Meade,
Deputy Regional Director, National Park Service, Northeast Region.

[FR Doc. 2016-26009 Filed 10-26-16; 8:45 am]

BILLING CODE 4312-52-P